Proclamation 7810 of September 10, 2004

National Ovarian Cancer Awareness Month, 2004

By the President of the United States of America

A Proclamation

Ovarian cancer affects thousands of Americans each year. During this time of tremendous medical breakthroughs, we are seeing progress in the effort to overcome this disease, but our work is not finished. National Ovarian Cancer Awareness Month provides an opportunity for our citizens to learn more about early detection and treatment for this deadly cancer.

Although new cases of ovarian cancer in the United States have been decreasing for more than a decade, the American Cancer Society estimates that about 25,000 women will be diagnosed this year and over 16,000 will die from the disease. Family and personal history can affect the likelihood of developing ovarian cancer. Women should talk with their doctors and health care providers about preventative screenings and the benefits and risks of different tests. Understanding risk factors and the importance of a healthy lifestyle plays a vital role in our efforts to save lives and reduce the number of women who suffer from ovarian cancer.

As with many cancers, the chance for successful treatment of ovarian cancer increases with early detection. The medical community continues to work on developing an effective screening test that can detect the disease in its early stages when symptoms may not exist or are very difficult to diagnose. The National Institutes of Health has invested more than $120 million this year in ovarian cancer research and expects to invest more in 2005. Through the National Cancer Institute's Ovarian Cancer Prevention and Early Detection Study, scientists are following women at increased risk for the cancer to assess how preemptive surgery and screening methods affect ovarian cancer occurrence and quality of life. The Centers for Disease Control and Prevention's Ovarian Cancer Control Initiative will also focus on factors related to early detection and treatment.

The United States continues to stay on the leading edge of new discoveries in medicine, and my Administration remains committed to providing the resources necessary to learn the causes, understand the symptoms, and find a cure for ovarian cancer. During this month, we reaffirm our dedication to these goals and recognize the strength and courage of the women who have suffered from this disease. We also recognize the families, friends, and loved ones who support and encourage these brave women. By working together, we can bring the hope of a healthier future to women in the fight against ovarian cancer.

NOW, THEREFORE, I, GEORGE W. BUSH, President of the United States of America, by virtue of the authority vested in me by the Constitution and laws of the United States, do hereby proclaim September 2004 as National Ovarian Cancer Awareness Month. I call upon the people of the United States to observe this month with appropriate programs and activities.

IN WITNESS WHEREOF, I have hereunto set my hand this tenth day of September, in the year of our Lord two thousand four, and of the Independence of the United States of America the two hundred and twenty-ninth.

B

[FR Doc. 04-20949

Filed 9-14-04; 9:09 am]

Billing code 3195-01-P